DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Comprehensive Economic Development Strategies and Planning Investments.

OMB Control Number: 0610-0093.

Form Number(s): None.

Type of Review: Regular submission.

Burden Hours: 35,880.

Number of Respondents: 521.

Average Hours per Response: 69.

Needs and Uses: In order to receive investment assistance under EDA's Public Works, Economic Adjustment, and most economic development Planning Programs, applicants must undertake a planning process that results in a Comprehensive Economic Development Strategy (CEDS). A CEDS also is a prerequisite for a region's designation by EDA as an Economic Development District (see 13 CFR parts 303, 305.2, and 307.2 of EDA's regulations). The CEDS planning process and resulting CEDS is designed to guide the economic growth of an area and provides a mechanism for coordinating the efforts of individuals, organizations, local governments, and private industry concerned with economic development. This collection of information is required to ensure that recipients of EDA funds understand and are able to comply with EDA's CEDS requirements.

Affected Public: State and local governments; Indian tribes; institutions of higher education; non-profit organizations; for-profit organizations; private individuals.

Frequency: Annually.

Respondent's Obligation: Required to obtain or retain benefits.

OMB Desk Officer: Sharon Mar, (202) 395-6466.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Sharon Mar, OMB Desk Officer, fax number (202) 395-5806, or Sharon_Mar@omb.eop.gov.

Dated: April 23, 2009.
Gwellnar Banks,
Management Analyst, Office of the Chief Information Officer.

[FR Doc. E9-9615 Filed 4-27-09; 8:45 am]

BILLING CODE 3510-34-P